NATIONAL AERONAUTICS AND SPACE ADMINISTRATION

48 CFR Parts 1831 and 1852

[Notice: (23-099)]

RIN 2700-AE72

NASA Federal Acquisition Regulation Supplement (NFS): Removal of Total Compensation Plan Language (NFS Case 2023-N002)

AGENCY: National Aeronautics and Space Administration.

ACTION: Proposed rule.

SUMMARY: NASA is proposing to amend the NASA Federal Acquisition Regulation Supplement (NFS) as well as corresponding sections of the CFR at 48 CFR part 1831 and 1852 to remove NFS 1831.205-671, Solicitation provision, and NFS Clause 1852.231-71, Determination of Compensation Reasonableness.

DATES: Comments are due December 1, 2023.

FOR FURTHER INFORMATION CONTACT: Edgar Lee, NASA HQs, Office of Procurement Management and Policy Division, LP-011, 300 E. Street SW, Washington, DC 20456-001. Telephone 202-420-1384; facsimile 202-358-3082.

SUPPLEMENTARY INFORMATION:

I. Background

NASA is proposing to amend the NFS by removing NFS 1831.205-671, Solicitation provision, and NFS 1852.231-71, Determination of Compensation Reasonableness, from the NFS. NASA has determined that these provisions are unnecessary as the as they exceed the scope requirements adequately covered in FAR provision 52.222-46, Evaluation of Compensation for Professional Employees. Currently, NFS requires an evaluation for all labor categories and periodic review of total compensation plans after contract award for cost reimbursement contracts (at least every 3 years) to evaluate the reasonableness of compensation for all proposed labor categories in service contracts.

NASA has made a determination to rely on FAR provision 52.222-46, agencywide templates, and instructions, to ensure consistency in the data provided to NASA and subsequent evaluations as well as ensuring NASA continues to pay fair and reasonable wages.

III. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review by OMB under E.O. 12866, Regulatory Planning and Review. This rule is not a major rule under 5 U.S.C. 804.

IV. Regulatory Flexibility Act

NASA does not expect this rule, when enacted, to have a significant economic impact on a substantial number of small entities within the meaning of the Regulatory Flexibility Act, 5 U.S.C. 601, et seq., because the rule is removing the NFS unique requirements for submission of total compensation plan. Therefore, an Initial Regulatory Flexibility Analysis has not been performed. NASA invites comments from small business concerns and other interested parties on the expected impact of this rulemaking on small entities.

NASA will also consider comments from small entities concerning the existing regulations in subparts affected by the rulemaking consistent with 5 U.S.C. 610. Interested parties must submit such comments separately and should cite 5 U.S.C. 610 and NFS Case 2023-N002 in correspondence.

V. Paperwork Reduction Act

The Paperwork Reduction Act (44 U.S.C. chapter 35) does apply. The changes proposed in this rulemaking will make an existing information collection currently approved under Office of Management and Budget (OMB) control number 2700-0077, Contractor and Subcontractor Compensation Plans, unnecessary. Subject to public comment to the contrary as part of this proposed rule, NASA plans to discontinue this collection with the publication of the final rule.

List of Subjects

48 CFR Part 1831

Accounting, Government procurement.

48 CFR Part 1852

Accounting, Government procurement, Reporting and recordkeeping requirements.

Erica Jones,
NASA FAR Supplement Manager.

For the reasons stated in the preamble, NASA proposes to amend 48 CFR parts 1831 and 1852 as follows:

PART 1831—CONTRACT COST PRINCIPLES AND PROCEDURES

1. The authority citation for part 1831 continues to read as follows:

Authority: 51 U.S.C. 20113(a) and 48 CFR chapter 1.

§ 1831.205-671 [Removed and Reserved]

2. Remove and reserve § 1831.205-671.

PART 1852—SOLICITATION PROCEDURES AND CONTRACT CLAUSES

3. The authority citation for part 1852 continues to read as follows:

Authority: 51 U.S.C. 20113(a) and 48 CFR chapter 1.

§ 1852.231-71 [Removed and Reserved]

4. Remove and reserve § 1852.231-71.

[FR Doc. 2023-21313 Filed 9-29-23; 8:45 am]

BILLING CODE 7510-13-P